DEPARTMENT OF TRANSPORTATION

Federal Aviation Administration

14 CFR Part 39

[Docket No. 2000-NM-72-AD]

RIN 2120-AA64

Airworthiness Directives; Airbus Model A300 B2, A300 B4, A300 B4-600, A300 B4-600R, A300 F4-600R, and A310 Series Airplanes

AGENCY: Federal Aviation Administration, DOT.

ACTION: Notice of proposed rulemaking (NPRM).

SUMMARY: This document proposes the adoption of a new airworthiness directive (AD) that is applicable to certain Airbus Model A300 B2, A300 B4, A300 B4-600, A300 B4-600R, A300 F4-600R, and A310 series airplanes. This proposal would require modification of the escape slides. This action is necessary to prevent deflation of the escape slide after deployment, which could result in a delay during an emergency evacuation. This action is intended to address the identified unsafe condition.

DATES: Comments must be received by November 30, 2000.

ADDRESSES: Submit comments in triplicate to the Federal Aviation Administration (FAA), Transport Airplane Directorate, ANM-114, Attention: Rules Docket No. 2000-NM-72-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-72-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments by issue. For example, discuss a request to change the compliance time and a request to change a service bulletin reference as two separate issues.

• For each issue, state the specific change to the proposed AD being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket No. 2000-NM-72-AD.” The postcard will be date stamped and returned to the commenter.

Availability of NPRMs

Any person may obtain a copy of this NPRM by submitting a request to the FAA, Transport Airplane Directorate, ANM-114, Attention: Rules Docket No. 2000-NM-72-AD, 1601 Lind Avenue, SW., Renton, Washington 98055-4056.

Discussion

The Direction Générale de l'Aviation Civile (DGAC), which is the airworthiness authority for France, notified the FAA that an unsafe condition may exist on certain Airbus Model A300 B2, A300 B4, A300 B4-600, A300 B4-600R, A300 F4-600R, and A310 series airplanes. The DGAC advises that it has received several reports that escape slides deflated immediately after deployment during operational tests. The slides deflated because the inflation bottle actuator punctured the lower part of the slide during deployment. The DGAC advises that a slide could be punctured if the inflation bottle was improperly installed (upside-down in its fabric-type bag) when the slide was packed. Such a slide puncture and consequent deflation, if not corrected, could result in a delay during an emergency evacuation.

Explanation of Relevant Service Information

Airbus has issued the following service bulletins:

Service bulletin | Revision level | Date | Model
A300-25-0466 | 01 | December 1, 1999 | A300 B2 A300 B4
A300-25-6146 | 01 | December 1, 1999 | A300 B4-600 A300 B4-600R A300 F4-600R
A310-25-2133 | Original | June 21, 1999 | A310

These service bulletins describe procedures for modification of certain BFGoodrich escape slides. The modification involves:

• Installing a pad on the actuator of the inflation bottle to protect the slide in case of contact between the bottle and the slide; and

• Replacing the fabric-type bottle bag (used on earlier slides) with a strap-type bottle bag to ensure the correct orientation of the bottle.

This modification will reduce the possibility of the slide being punctured by contact with the regulator valve during inflation. Accomplishment of the actions specified in these service bulletins is intended to adequately address the identified unsafe condition. The DGAC classified these service bulletins as mandatory and issued French airworthiness directive 2000-059-302(B), dated February 9, 2000, in order to ensure the continued airworthiness of these airplanes in France.

The Airbus service bulletins refer to BFGoodrich Service Bulletin 7A1296/7A1298-25-298, dated January 15, 1999, as an additional source of service information for modifying the escape slides.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require modification of the escape slides, as specified in the Airbus service bulletins described previously.

Cost Impact

The FAA estimates that 126 airplanes of U.S. registry would be affected by this proposed AD, that it would take approximately 1 work hour per slide to accomplish the proposed actions, and that the average labor rate is $60 per work hour. Required parts would cost approximately $124 to $185 per slide. Each Model A300 and A300-600 series airplane has 6 escape doors, and each Model A310 series airplane has 4 escape doors. Based on these figures, the cost impact of the proposed AD on U.S. operators is estimated to be between $736 and $1,470 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-72-AD.

Applicability: The following airplanes, certificated in any category:

Model | Equipped with any BFGoodrich slide having part number— | Excluding airplanes modified in accordance with—
A300 B2, A300 B4 | 7A1296-001 7A1296-002 7A1296-003 7A1296-004 7A1298-001 7A1298-002 7A1298-003 7A1298-004 | Airbus Service Bulletin A300-25-0466, Revision 01, dated December 1, 1999; or BFGoodrich Service Bulletin 7A1296/7A1298-25-298, dated January 15, 1999.
A300 B4-600, A300 B4-600R, A300 F4-600R | 7A1296-001 7A1296-002 7A1296-003 7A1296-004 7A1298-001 7A1298-002 7A1298-003 7A1298-004 | Airbus Service Bulletin A300-25-6146, Revision 01, dated December 1, 1999; or BFGoodrich Service Bulletin 7A1296/7A1298-25-298, dated January 15, 1999.
A310 | 7A1298-001 7A1298-002 7A1298-003 7A1298-004 | Airbus Service Bulletin A310-25-2133, dated January 21, 1999; or BFGoodrich Service Bulletin 7A1296/7A1298-25-298, dated January 15, 1999.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent deflation of the escape slide after deployment, which could result in a delay during an emergency evacuation, accomplish the following:

Modification

(a) Within 34 months after the effective date of this AD, modify the escape slides in accordance with the applicable Airbus service bulletin listed in Table 1 of this AD.

Table 1.—Service Bulletins
Model | Service bulletin | Revision level | Date
A300 | A300-25-0466 | 01 | December 1, 1999.
A300-600 | A300-25-6146 | 01 | December 1, 1999.
A310 | A310-25-2133 | Original | January 21, 1999.

Note 2: The Airbus service bulletins refer to BFGoodrich Service Bulletin 7A1296/7A1298-25-298, dated January 15, 1999, as an additional source of service information for modifying the escape slides.

(b) As of the effective date of this AD, no person shall install, on any airplane, a BFGoodrich escape slide having a part number listed in Table 2 of this AD, unless that slide has been modified in accordance with this AD:

Table 2.—Slide Part Numbers
7A1296-001 | 7A1296-002
7A1296-003 | 7A1296-004
7A1298-001 | 7A1298-002
7A1298-003 | 7A1298-004

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 4: The subject of this AD is addressed in French airworthiness directive 2000-059-302(B), dated February 9, 2000.

Issued in Renton, Washington, on October 25, 2000.
Donald L. Riggin,
Acting Manager, Transport Airplane Directorate, Aircraft Certification Service.

[FR Doc. 00-27948 Filed 10-30-00; 8:45 am]

BILLING CODE 4910-13-P